DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Region Pacific Tuna Fisheries Logbook and Fish Aggregating Device Form.

OMB Control Number: 0648-0148.

Form Number(s): None.

Type of Request: Regular (extension of a currently approved information collection).

Number of Respondents: 21.

Average Hours per Response: 5 minutes to complete bridge log; 10 minutes to complete FAD data collection requirements.

Burden Hours: 746.

Needs and Uses: This request is for an extension of a current information collection.

United States' (U.S.) participation in the Inter-American Tropical Tuna Commission (IATTC) results in certain record keeping requirements for U.S. vessel owners and operators who fish in the IATTC's area of management responsibility. Vessel owners and operators must maintain a log of all operations conducted from the fishing vessel, entering the date, noon position, and the tonnage of fish aboard by species. The purse seine bridge logbook provided by the IATTC is used by all United States purse seine vessel owners and operators. In addition, vessel owners and operators of large purse seine vessels (i.e., with at least 363 metric tons of fish hold volume) that fish with FADs in the Eastern Pacific Ocean (EPO) are required to collect data specific on fish aggregating devices (FADs) to meet international obligations under IATTC Resolution C-16-01. Owners and operators of a FAD would be required to record data for each interaction with a FAD through a FAD form provided by the IATTC or through a FAD form provided by NMFS that combines the bridge logbook with the FAD Form. Data collected from FADs will allow IATTC scientific staff to distinguish a particular FAD when analyzing data and can track the activities on a FAD through time.

Affected Public: Business or other for-profit organizations.

Frequency: Daily when on fishing trip.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 7, 2017.
Sarah Brabson,
NOAA PRA Clearance Officer.

[FR Doc. 2017-12065 Filed 6-9-17; 8:45 am]

BILLING CODE 3510-22-P